NUCLEAR REGULATORY COMMISSION

[NRC-2012-0269; Docket Nos. 50-325 and 50-324; License Nos. DPR-71 and DPR-62]

Duke Energy Progress, Inc.; Brunswick Steam Electric Plant, Units 1 and 2

AGENCY: Nuclear Regulatory Commission.

ACTION: Issuance of Director's decision.

SUMMARY: Notice is hereby given that the Director, Office of Nuclear Reactor Regulation, U.S. Nuclear Regulatory Commission (NRC) has issued a Director's Decision on a petition filed by Mr. David Lochbaum, on behalf of the Union of Concerned Scientists; the North Carolina Waste Awareness & Reduction Network; and the Nuclear Information and Resource Service (hereafter referred to as “the petitioner”).

ADDRESSES: Please refer to Docket ID NRC-2012-0269 when contacting the NRC about the availability of information regarding this document. You may access publicly-available information related to this action by the following methods:

• Federal Rulemaking Web site: Go to http://www.regulations.gov and search for Docket ID NRC-2012-0269. Address questions about NRC dockets to Carol Gallagher; telephone: 301-287-3422; email: Carol.Gallagher@nrc.gov.

• NRC's Agencywide Documents Access and Management System (ADAMS):

You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The petition, dated July 10, 2012, under ADAMS Accession No. ML12193A123, concerns the operation of the Brunswick Steam Electric Plant, Units 1 and 2 (Brunswick), which are operated by Duke Energy Progress, Inc. (the licensee).

• NRC's PDR: You may examine and purchase copies of public documents at the NRC's PDR, Room O1-F21, One White Flint North, 11555 Rockville Pike, Rockville, Maryland 20852.

Discussion

The petitioner requested that the NRC take enforcement action in the form of an Order either modifying the Brunswick operating licenses or requiring the licensee to submit amendment requests for these licenses.

The petitioner requested that the NRC take enforcement action in the form of an Order that would result in a new technical specification (TS) safety limits (SLs) and expand the applicability of numerous TS limiting condition for operations related to spent fuel pool (SFP) storage. As the basis for the request, the petitioner asserted that the changes sought would provide better management of the risk from irradiated fuel stored in the SFPs.

The petitioner had a recorded conference call with the NRC's Office of Nuclear Reactor Regulation's Petition's Review Board on August 15, 2012, to discuss and supplement the petition. The NRC has made the official transcript of the August 15, 2012, conference call publicly available online in the NRC's Library at http://www.nrc.gov/reading-rm/adams.html (ADAMS Accession No. ML12234A730).

The NRC sent a copy of the proposed Director's Decision to the petitioner and the licensee for comment on October 23, 2013. The NRC requested the petitioner and the licensee to provide comments within 30 days on any part of the proposed Director's Decision considered erroneous or any issues in the petition that were not addressed. The NRC did not receive any comments.

The Director of the Office of Nuclear Reactor Regulation has denied the request to take enforcement action in the form of an Order either modifying the Brunswick operating licenses or requiring the licensee to submit amendment requests for these licenses, which would result in a new TS SL and expand the applicability of numerous TS limiting conditions of operation (LCOs) related to SFP storage. The NRC staff reviewed the petitioner's requested actions against the regulatory framework that is in place to determine when TS SLs, LCOs, or design features are required, including the Commission's policy statement on TSs. The NRC staff found no basis for taking enforcement action against the licensee based on the petitioner's concerns. The Director's Decision (DD-13-03) under section 2.206 of Title 10 of the Code of Federal Regulations (10 CFR), “Requests for Action under this Subpart,” explains the reasons for this decision. The complete text is in ADAMS under Accession No. ML13339A590 and is available for inspection at the NRC's PDR. The NRC will file a copy of the Director's Decision with the Secretary of the Commission for the Commission's review in accordance with 10 CFR 2.206.

As provided for by this regulation, the Director's Decision will constitute the final action of the Commission 25 days after the date of the decision unless the Commission, on its own motion, institutes a review of the Director's Decision in that time.

Dated at Rockville, Maryland, this 30 day of December 2013.
For the Nuclear Regulatory Commission.
Jennifer L. Uhle,
Deputy Director for Reactor Safety Programs, Office of Nuclear Reactor Regulation.

[FR Doc. 2014-00250 Filed 1-9-14; 8:45 am]

BILLING CODE 7590-01-P